DEPARTMENT OF JUSTICE

[OMB Number 1121-0340]

Agency Information Collection Activities; Proposed eCollection eComments Requested; Equal Employment Opportunity Plan Certification and Utilization Report

AGENCY: The Office for Civil Rights, Office of Justice Programs, Department of Justice

ACTION: 30-Day notice.

SUMMARY: The Department of Justice (DOJ), Drug Enforcement Administration (DEA) will be submitting the following information collection request to the Office of Management and Budget (OMB) for review and approval in accordance with the Paperwork Reduction Act of 1995. The proposed information collection is published to obtain comments from the public and affected agencies. This proposed information collection was previously published in the Federal Register Volume 79, Number 62, page 18314, on April 1, 2014, allowing for a 60 day comment period.

DATES: The purpose of this notice is to allow for an additional 30 days for public comment until July 7, 2014.

FOR FURTHER INFORMATION CONTACT: If you have comments, especially on the estimated public burden or associated response time, suggestions, or need a copy of the proposed information collection instrument with instructions or additional information, please contact George Mazza, Senior Counsel, Office for Civil Rights, Office of Justice Programs, 810 7th Street NW., Washington, DC 20531. Written comments and/or suggestions can also be directed to the Office of Management and Budget, Officer of Information and Regulatory Affairs, Attention Department of Justice Desk Officer, Washington DC 20503 or send to OIRA_submission@omb.eop.gov.

SUPPLEMENTARY INFORMATION: This process is conducted in accordance with 5 CFR 1320.10. Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of This Information Collection 1117-0043

(1) Type of Information Collection: Reinstatement, with no change, of a previously approved collection for which approval has expired.

(2) Title of the Form/Collection: Equal Employment Opportunity Plan Certification and Utilization Report.

(3) Agency form number, if any, and the applicable component of the Department sponsoring the collection: The Office for Civil Rights, Office of Justice Programs, United States Department of Justice, is sponsoring the collection.

(4) Affected public who will be asked or required to respond, as well as a brief abstract: State, and local, government instrumentalities. Other: For-profit Institutions. 28 CFR 42.301 et seq. authorizes the Department of Justice to collect information regarding employment practices from State or Local units of government, agencies of State and Local governments, and Private entities, institutions or organizations to which OJP, COPS or OVW extend Federal financial assistance. OJP components include the Bureau of Justice Assistance (BJA), Office for Victims of Crime (OVC), Office of Juvenile Justice and Delinquency Prevention (OJJDP), Bureau of Justice Statistics (BJS), National Institute of Justice (NIJ), and the Office of Sexual Offender Sentencing, Monitoring, Apprehending, Registering, and Tracking (SMART Office).

(5) An estimate of the total number of respondents and the amount of time estimated for an average respondent to respond: It is estimated that 255,000 respondents will respond annually, taking 5 minutes to complete each form.

(6) An estimate of the total public burden (in hours) associated with the collection: For the 6371 respondents, the total estimated burden hours on respondents would be 2,560 to complete the EEOP Utilization Report or Certification.

If additional information is required contact: Jerri Murray, Department Clearance Officer, United States Department of Justice, Justice Management Division, Policy and Planning Staff, Two Constitution Square, 145 N Street NE., Room 3E.405B, Washington, DC 20530.

Dated: May 29, 2014.
Jerri Murray,
Department Clearance Officer for PRA, U.S. Department of Justice.

[FR Doc. 2014-12837 Filed 6-3-14; 8:45 am]

BILLING CODE 4410-CW-P